DEPARTMENT OF TRANSPORTATION

Federal Motor Carrier Safety Administration

49 CFR Part 367

[Docket No. FMCSA-2022-0001]

RIN 2126-AC51

Fees for the Unified Carrier Registration Plan and Agreement

AGENCY: Federal Motor Carrier Safety Administration (FMCSA), Department of Transportation (DOT).

ACTION: Final rule; correcting amendment.

SUMMARY: The Federal Motor Carrier Safety Administration is correcting a final rule that published September 1, 2022, in the Federal Register. The document amended the regulations for the annual registration fees States collect from motor carriers, motor private carriers of property, brokers, freight forwarders, and leasing companies for the Unified Carrier Registration (UCR) Plan and Agreement for the 2023 registration year and subsequent registration years.

DATES: Effective September 8, 2022.

FOR FURTHER INFORMATION CONTACT: Mr. Kenneth Riddle, Director, Office of Registration and Safety Information, FMCSA, 1200 New Jersey Avenue SE, Washington, DC 20590-0001, FMCSA-MCRS@dot.gov. If you have questions on viewing or submitting material to the docket, call Dockets Operations at (202) 366-9826.

SUPPLEMENTARY INFORMATION: FMCSA is correcting the final rule on UCR fees that published September 1, 2022 at 87 FR 53680. This rule amended the regulations for the annual registration fees States collect from motor carriers, motor private carriers of property, brokers, freight forwarders, and leasing companies for the Unified Carrier Registration (UCR) Plan and Agreement for the 2023 registration year and subsequent registration years. An inadvertent typographical error created an incorrect authority citation. This document corrects this error.

List of Subjects in 49 CFR Part 367

Intergovernmental relations, Motor carriers, Brokers, Freight Forwarders.

Accordingly, FMCSA corrects 49 CFR part 367 by making the following correcting amendment:

PART 367—STANDARDS FOR REGISTRATION WITH STATES

1. The authority citation for part 367 is revised to read as follows:

Authority: 49 U.S.C. 13301, 14504a; and 49 CFR 1.87.

Issued under authority delegated in 49 CFR 1.87.
Larry W. Minor,
Associate Administrator for Policy.

[FR Doc. 2022-19354 Filed 9-7-22; 8:45 am]

BILLING CODE P